COMMISSION ON REVIEW OF OVERSEAS MILITARY FACILITY STRUCTURE OF THE UNITED STATES

Public Meeting

AGENCIES: Commission on Review of Overseas Military Facility Structure of the United States (Overseas Basing Commission (OSBC)).

ACTION: Notice of public meeting.

SUMMARY: In accordance with the Federal Advisory Committee Act, section 552 of title 5 U.S.C., this serves as public notice of a meeting of the Commission on the Review of Overseas Military Facility Structure of the United States. The Commission will meet to receive testimony from former military experts and members of Congress concerning matters relating to the overseas military facility structure of the United States. The OSBC Commission will convene to receive testimony from three panels. The first panel will be the former Deputy Secretary of Defense and Under Secretary of Defense (Comptroller), Dr. John J. Hamre; and the former U.S. Ambassador to NATO and U.S. Representative to Western European Union, Ambassador Robert E. Hunter. The second panel will be military experts that include General Charles A. Horner, former Combatant Commander of North American Aerospace Defense Command and U.S. Space Command as well as the Commander of 9th Air Force and U.S. Central Command Air Force during operations Desert Shield and Desert Storm; General Montgomery C. Meigs, former Commanding General, U.S. Army, Europe and 7th Army, and Commander of Multinational Stabilization Force in Bosnia-Herzegovina; General Charles T. “Tony” Robertson, Jr. former Combatant Commander for U.S. Transportation Command and Air Mobility Command; and General John H. Tilelli, Jr. former Combatant Commander of the United Nations Command, Republic of Korea/United States Combined Forces Korea and President of USO Worldwide Operations, as well as, Vice Chief of Staff of the Army and Deputy Chief of Army Operations. The OSBC will continue their discovery session with a third panel of defense policy experts: Prof. Thomas P.M. Barnett, Senior Strategic Researcher, U.S. Naval War College; Marcus Corbin, Senior Analyst at the Center for Defense Information; and Michael Noonan, research fellow (defense policy) and the National Security program director for the Foreign Policy Research Institute.

DATE: The meeting will be held on Nov 9, 2004, at 9:00 a.m., local time.

ADDRESS: The meeting will be held at the United States Senate, Dirksen Senate Office Building, Room SD138, 1st and C Streets, NE, Washington, DC. Security procedures at the Dirksen Senate Office Building may require inspection of purses, packages, screening of individuals, and presentation of a valid individual identification document. The building is physically accessible to people with disabilities.

FOR FURTHER INFORMATION CONTACT: Mr. Wade Nelson, Public Affairs, at (708) 204-0711.

Public Participation: Members of the general public wishing to address the Commission may submit their comments in writing to the Commission at the time of the meeting. Supplementary Information: The Commission is established by Public Law 108-132 to provide Congress and the President with a thorough study and review of matters relating to the military facility structure overseas. The law requires the report to include a proposal for an overseas basing strategy to meet current and future DoD missions.

Dated: October 22, 2004.
Patricia J. Walker,
Executive Director, Commission on Review of Overseas Military Facility Structure of the United States

[FR Doc. 04-24070 Filed 10-27-04; 8:45 am]

BILLING CODE 6820-YK-S